DEPARTMENT OF TRANSPORTATION

Federal Aviation Administration

14 CFR Part 21

[Docket No. FAA-2015-3031]

Final Primary Category Airworthiness Design Standards; AutoGyro USA, LLC (AutoGyro) Model Calidus Gyroplane

AGENCY: Federal Aviation Administration (FAA), DOT.

ACTION: Issuance of final Airworthiness Design Standards.

SUMMARY: These airworthiness design standards are issued to AutoGyro for certification of the Model Calidus gyroplane under the regulations for primary category aircraft.

DATES: These airworthiness design standards are effective November 16, 2015.

FOR FURTHER INFORMATION CONTACT: Gary Roach, Aviation Safety Engineer, Regulations and Policy Group, Rotorcraft Directorate, FAA, 10101 Hillwood Pkwy., Fort Worth, Texas 76177; telephone (817) 222-5110; email gary.b.roach@faa.gov.

SUPPLEMENTARY INFORMATION: Any person may obtain a copy of this information by contacting the person named above under FOR FURTHER INFORMATION CONTACT.

Background

The “primary” category for aircraft was created specifically for the simple, low performance personal aircraft. Section 21.17(f) provides a means for applicants to propose airworthiness standards for their particular primary category aircraft. The FAA procedure establishing appropriate airworthiness standards includes reviewing and possibly revising the applicant's proposal, publication of the submittal in the Federal Register for public review and comment, and addressing the comments. After all necessary revisions, the standards are published as approved FAA airworthiness standards.

Comments

Proposed Primary Category Airworthiness Design Standards; AutoGyro USA, LLC (AutoGyro) Model Calidus Gyroplanes was published in the Federal Register on July 24, 2015 (80 FR 43969). One supportive comment was received, and the airworthiness design standards are adopted as proposed.

Applicability

These airworthiness design standards under the primary category rule are applicable to the Autogyro Model Calidus gyroplane. Should Autogyro wish to apply these airworthiness design standards to other gyroplane models, Autogyro must submit a new airworthiness design standard application under the primary rule category.

Conclusion

This action affects only certain airworthiness design standards on the Autogyro Model Calidus gyroplane. It is not a standard of general applicability and it affects only the applicant who applied to the FAA for approval of these features on the gyroplane.

Citation

The authority citation for these airworthiness standards is as follows:

Authority: 49 U.S.C. 106(g), 40113 and 44701.

Final Airworthiness Standards for Acceptance Under the Primary Category Rule

For Aircraft Certification and the Powerplant Installation:

Section T Light Gyroplanes, of the British Civil Airworthiness Requirements (BCAR), Issue 3, dated August 12, 2005.

14 CFR 27.853(a) and (c)(1) Amdt 27-37 Compartment Interior; §§ 23.735(a) through (c) Amdt 23-62 Brakes except that the reference to § 23.75 is replaced with Section T75 of BCAR Section T, Issue 3; §§ 27.735(a) and (c)(1) Amdt 27-21 Brakes; §§ 27.1365(b) and (c) Amdt 27-35 Electrical Cables; and § 27.1561(a) Safety Equipment, as applicable to these aircraft.

For Engine Assembly Certification:

ASTM F2339-06 (2009), “Standard Practice for Design and Manufacture of Reciprocating Spark Ignition Engines for Light Sport Aircraft,” except paragraph A1.1.3.

For Propeller Certification:

Section T Light Gyroplanes, of the BCAR, Issue 3, dated August 12, 2005; ASTM F2506-10 (2009), “Standard Specification for Design and Testing of Fixed-Pitch or Ground Adjustable Light Sport Aircraft Propellers,” paragraph 5.5 Propeller Strength and Endurance and Section 6 Tests and Inspections.

Issued in Fort Worth, Texas, on October 8, 2015.
Lance T. Gant,
Manager, Rotorcraft Directorate, Aircraft Certification Service.

[FR Doc. 2015-26269 Filed 10-14-15; 8:45 am]

BILLING CODE 4910-13-P